DEPARTMENT OF ENERGY

Federal Energy Regulatory Commission

Combined Notice of Filings #1

Take notice that the Commission received the following electric rate filings:

Docket Numbers: ER12-162-004; ER11-3876-006; ER11-2044-007; ER10-2611-004.

Applicants: Bishop Hill Energy II LLC.

Description: Notice of Change in Status of Bishop Hill Energy II LLC, et al.

Filed Date: 9/10/12.

Accession Number: 20120910-5132.

Comments Due: 5 p.m. ET 10/1/12.

Docket Numbers: ER12-2600-000.

Applicants: American Illuminating Company, LLC.

Description: Application for Market-Based Rate Authorization to be effective 11/5/2012.

Filed Date: 9/7/12.

Accession Number: 20120907-5205.

Comments Due: 5 p.m. ET 9/28/12.

Docket Numbers: ER12-2601-000.

Applicants: Rayonier Performance Fibers, LLC.

Description: Application for Market-Based Rate Authorization to be effective 9/8/2012.

Filed Date: 9/7/12.

Accession Number: 20120907-5207.

Comments Due: 5 p.m. ET 9/28/12.

Docket Numbers: ER12-2602-000.

Applicants: Southwest Power Pool, Inc.

Description: Petition for Waiver of Tariff Provisions of Southwest Power Pool, Inc.

Filed Date: 9/7/12.

Accession Number: 20120907-5240.

Comments Due: 5 p.m. ET 9/28/12.

Docket Numbers: ER12-2603-000.

Applicants: Tucson Electric Power Company.

Description: TEP SRSG Agreement-Addition of Star West to be effective 5/17/2011.

Filed Date: 9/10/12.

Accession Number: 20120910-5108.

Comments Due: 5 p.m. ET 10/1/12.

Docket Numbers: ER12-2604-000.

Applicants: PJM Interconnection, L.L.C.

Description: NITSA among PJM and SEPA as PJM Service Agreement No. 3341 to be effective 9/17/2010.

Filed Date: 9/10/12.

Accession Number: 20120910-5113.

Comments Due: 5 p.m. ET 10/1/12.

Docket Numbers: ER12-2605-000.

Applicants: Tucson Electric Power Company.

Description: TEP SRSG Agreement—Addition of Mesquite Power to be effective 12/28/2011.

Filed Date: 9/10/12.

Accession Number: 20120910-5116.

Comments Due: 5 p.m. ET 10/1/12.

Docket Numbers: ER12-2606-000.

Applicants: PJM Interconnection, L.L.C.

Description: Compliance Filing per 7/11/2012 Order in EL12-50-000 to be effective 7/11/2012.

Filed Date: 9/10/12.

Accession Number: 20120910-5121.

Comments Due: 5 p.m. ET 10/1/12.

Docket Numbers: ER12-2606-001.

Applicants: PJM Interconnection, L.L.C.

Description: Compliance Filing per 7/11/2012 Order in EL12-50-000 (sections eff 7/18/2012) to be effective 7/18/2012.

Filed Date: 9/10/12.

Accession Number: 20120910-5140.

Comments Due: 5 p.m. ET 10/1/12.

Docket Numbers: ER12-2607-000.

Applicants: Southwest Power Pool, Inc..

Description: Submission of Notice of Cancellation—1906R1 MEAN NITSA NOA to be effective 7/1/2012.

Filed Date: 9/10/12.

Accession Number: 20120910-5122.

Comments Due: 5 p.m. ET 10/1/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2012.
Nathaniel J. Davis, Sr.,
Deputy Secretary.

[FR Doc. 2012-22949 Filed 9-17-12; 8:45 am]

BILLING CODE 6717-01-P